DEPARTMENT OF COMMERCE

International Trade Administration

[A-583-848]

Certain Stilbenic Optical Brightening Agents From Taiwan: Final Results of Antidumping Duty Administrative Review; 2014-2015

AGENCY: Enforcement and Compliance, International Trade Administration, Department of Commerce.

SUMMARY: On February 26, 2016, the Department of Commerce (the Department) published the preliminary results of the administrative review of the antidumping duty order on certain stilbenic optical brightening agents (OBAs) from Taiwan.¹ The period of review (POR) is May 1, 2014, through April 30, 2015. The review covers one producer/exporter of the subject merchandise, Teh Fong Ming International Co., Ltd. (TFM). For the final results, we find that TFM has sold subject merchandise at less than normal value.

¹ See Certain Stilbenic Optical Brightening Agents From Taiwan: Preliminary Results of Antidumping Duty Administrative Review; 2014-2015, 81 FR 9805 (February 26, 2016) (Preliminary Results) and accompanying decision memorandum (Preliminary Decision Memorandum).

DATES: Effective Date: July 6, 2016.

FOR FURTHER INFORMATION CONTACT: Catherine Cartsos or Minoo Hatten, AD/CVD Operations, Office I, Enforcement and Compliance, International Trade Administration, U.S. Department of Commerce, 1401 Constitution Avenue NW., Washington, DC 20230; telephone: (202) 482-1757, and (202) 482-1690, respectively.

SUPPLEMENTARY INFORMATION:

Background

On February 26, 2016, the Department published the Preliminary Results of this review in the Federal Register. We invited parties to comment on the Preliminary Results. On March 28, 2016, TFM submitted a case brief. On April 4, 2016, Archroma U.S., Inc., a domestic producer of merchandise, submitted a rebuttal brief. At the request of TFM,² we held a hearing on May 11, 2016.³ The Department conducted this review in accordance with section 751(a)(2) of the Tariff Act of 1930, as amended (the Act).

² See letter from TFM dated March 19, 2016.

³ See hearing transcript, filed on the record May 17, 2016.

Scope of the Order

The merchandise subject to the Order ⁴ is OBAs and is currently classifiable under subheadings 3204.20.8000, 2933.69.6050, 2921.59.4000 and 2921.59.8090 of the Harmonized Tariff Schedule of the United States (HTSUS). While the HTSUS numbers are provided for convenience and customs purposes, the written product description remains dispositive.⁵

⁴ See Certain Stilbenic Optical Brightening Agents From Taiwan: Amended Final Determination of Sales at Less Than Fair Value and Antidumping Duty Order, 77 FR 27419 (May 10, 2012) (Order).

⁵ A full description of the scope of the Order is contained in the memorandum to Paul Piquado, Assistant Secretary for Enforcement and Compliance, from Christian Marsh, Deputy Assistant Secretary for Antidumping and Countervailing Duty Operations, “Certain Stilbenic Optical Brightening Agents from Taiwan: Issues and Decision Memorandum for Final Results of Antidumping Duty Administrative Review; 2014-2015” dated concurrently with and hereby adopted by this notice (Issues and Decision Memorandum).

Analysis of the Comments Received

All issues raised in the case brief and rebuttal brief submitted in this review are addressed in the Issues and Decision Memorandum, which is hereby adopted with this notice. A list of the issues raised is attached as an Appendix to this notice. The Issues and Decision Memorandum is a public document and is on file electronically via Enforcement and Compliance's Antidumping and Countervailing Duty Centralized Electronic Service System (ACCESS). ACCESS is available to registered users at http://access.trade.gov and it is available to all parties in the Central Records Unit, Room B8024 of the main Department of Commerce building. In addition, a complete version of the Issues and Decision Memorandum can be accessed directly at http://enforcement.trade.gov/frn/index.html.

Changes Since the Preliminary Results

Based on our analysis of the comments received, we have not made changes to the Preliminary Results. For a discussion of our analysis of the comments received, see Issues and Decision Memorandum.

Final Results of Review

For the final results of this review, in accordance with sections 776(a) and (b) of the Act, we continued to rely on facts available with an adverse inference to establish a rate of 6.19 percent as the weighted-average dumping margin for TFM for the period May 1, 2014, through April 30, 2015. As the Department explained in the Preliminary Decision Memorandum, the 6.19 percent rate is the highest applied margin in a separate segment of the same proceeding, and according to 776(c)(2) of the Act, this rate does not require corroboration.⁶

⁶ See Preliminary Decision Memorandum at 10.

Assessment

The Department will instruct U.S. Customs and Border Protection (CBP) to apply an ad valorem assessment rate of 6.19 percent to all entries of subject merchandise during the POR which were produced and/or exported by TFM. We intend to issue instructions to CBP 15 days after publication of the final results of this review.

Cash Deposit Requirements

The following cash deposit requirements will be effective upon publication of the notice of final results of administrative review for all shipments of OBAs from Taiwan entered, or withdrawn from warehouse, for consumption on or after the date of publication as provided by section 751(a)(2) of the Act: (1) The cash deposit rate for TFM will be 6.19 percent, the weighted average dumping margin established in the final results of this administrative review; (2) for other manufacturers and exporters covered in a prior segment of the proceeding, the cash deposit rate will continue to be the company-specific rate published for the most recently completed segment of this proceeding; (3) if the exporter is not a firm covered in this review, a prior review, or the original investigation, but the manufacturer is, the cash deposit rate will be the rate established for the most recently completed segment of this proceeding for the manufacturer of subject merchandise; and (4) the cash deposit rate for all other manufacturers or exporters will continue to be 6.19 percent, the all-others rate established in the less than fair value investigation.⁷ These cash deposit requirements, when imposed, shall remain in effect until further notice.

⁷ The all-others rate established in the Order.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: June 27, 2016.
Paul Piquado,
Assistant Secretary for Enforcement and Compliance.

Appendix—List of Topics Discussed in the Issues and Decision Memorandum

Summary

Background

Scope of the Order

Discussion of the Issues

Comment 1: Questionnaire Original Deadline

Comment 2: Hindrance of Proceeding

Comment 3: Opportunity To Remedy Under the Statute and Regulations

Comment 4: Untimely Extension Request Due to Extraordinary Circumstances

Comment 5: Per Se Rule Decision Making

Comment 6: Focus on Adverse Facts Available (AFA) Rate and Not on Decision To Apply AFA

Comment 7: Rejection Letter Attachment

Comment 8: Addressing the Facts of the Case

Comment 9: Neutral Facts Available

Recommendation

[FR Doc. 2016-15834 Filed 7-5-16; 8:45 am]

BILLING CODE 3510-DS-P